DEPARTMENT OF COMMERCE

International Trade Administration

[A-357-818]

Lemon Juice From Argentina: Final Results of the Expedited First Sunset Review of the Suspended Antidumping Duty Investigation

AGENCY: Import Administration, International Trade Administration, Department of Commerce.

DATES: Effective Date: December 7, 2012.

SUMMARY: On August 1, 2012, the Department of Commerce (“Department”) published in the Federal Register the notice of initiation of the sunset review of the suspended antidumping duty investigation on lemon juice from Argentina. The Department has conducted an expedited sunset review of this suspended investigation. As a result of this sunset review, the Department finds that termination of the suspended antidumping duty investigation would be likely to lead to continuation or recurrence of dumping at the rates identified in the “Final Results of Review” section of this notice.

FOR FURTHER INFORMATION CONTACT: Julie Santoboni or Anne D'Alauro, Office of Policy, Bilateral Agreements Unit, Import Administration, International Trade Administration, U.S. Department of Commerce, 14th Street and Constitution Avenue NW., Washington, DC 20230; telephone (202) 482-3063 and (202) 482-4830, respectively.

SUPPLEMENTARY INFORMATION:

Background

On August 1, 2012, the Department initiated a sunset review of the suspended antidumping duty investigation on lemon juice from Argentina, pursuant to section 751(c) of the Tariff Act of 1930, as amended (“the Act”). See Initiation of Five-Year (“Sunset”) Review, 77 FR 45589 (August 1, 2012). The Department received a notice of intent to participate from domestic interested party Ventura Coastal LLC (“Ventura”), a joint venture between Ventura Coastal and Sunkist Growers, Inc. (petitioner in the underlying investigation), within the deadline specified in 19 CFR 351.218(d)(1)(i). Ventura claimed interested party status under section 771(9)(C) of the Act as a manufacturer, producer, or wholesaler in the United States of a domestic like product.

On August 31, 2012, the Department received a substantive response from Ventura. In addition to meeting the other requirements of 19 CFR 351.218(d)(3), Ventura provided information on the volume and value of Argentine exports of lemon juice to the United States. The Department received no responses from other parties to this proceeding. As a result, pursuant to section 751(c)(3)(B) of the Act and 19 CFR 351.218(e)(1)(ii)(C)(2), the Department conducted an expedited (120-day) sunset review.

As explained in the memorandum from the Assistant Secretary for Import Administration, the Department has exercised its discretion to toll deadlines for the duration of the closure of the Federal Government from October 29, through October 30, 2012. Thus, all deadlines in this segment of the proceeding have been extended by two days. The revised deadline for the final results of this review is now December 2, 2012. See Memorandum to the Record from Paul Piquado, Assistant Secretary for Import Administration, regarding “Tolling of Administrative Deadlines As a Result of the Government Closure During the Recent Hurricane,” dated October 31, 2012.

Scope of the Suspended Investigation

The merchandise covered by the suspended investigation includes certain lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of this Agreement is dispositive.

Analysis of Comments Received

All issues raised in this review are addressed in the Issues and Decision Memorandum (“Decision Memorandum”) from Lynn Fischer Fox, Deputy Assistant Secretary for Policy & Negotiations, to Paul Piquado, Assistant Secretary for Import Administration, dated concurrently with this notice, which is hereby adopted by this notice. The issues discussed in the Decision Memorandum include the likelihood of continuation or recurrence of dumping and the magnitude of the margin of dumping likely to prevail if the suspended investigation were revoked. Parties can find a complete discussion of all issues raised in the review and the corresponding recommendations in this public memorandum, which is on file electronically via Import Administration's Antidumping and Countervailing Duty Centralized Electronic Service System (“IA ACCESS”). IA ACCESS is available to registered users at http://iaaccess.trade.gov and in the Central Records Unit in room 7046 of the main Commerce building. In addition, a complete version of the Decision Memorandum can be accessed directly on the Internet at http://ia.ita.doc.gov/frn. The paper copy and electronic version of the Decision Memorandum are identical in content.

Final Results of Review

Pursuant to sections 752(c)(1) and (3) of the Act, we find that termination of the suspended antidumping duty investigation on lemon juice from Argentina would be likely to lead to continuation or recurrence of dumping and that the magnitude of the margin of dumping likely to prevail if the suspended investigation were terminated is 85.64 percent for San Miguel, 128.5 percent for Citrusvil and 113.52 percent for all other exporters.

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: December 3, 2012.
Paul Piquado,
Assistant Secretary for Import Administration.

[FR Doc. 2012-29666 Filed 12-6-12; 8:45 am]

BILLING CODE 3510-DS-P